DEPARTMENT OF COMMERCE

National Oceanic and Atmospheric Administration

Science Advisory Board; Notice of Meeting

AGENCY: Office of Oceanic and Atmospheric Research (OAR), National Oceanic and Atmospheric Administration (NOAA), Department of Commerce (DOC).

ACTION: Notice of open meeting.

SUMMARY: The Science Advisory Board (SAB) was established by a Decision Memorandum dated September 25, 1997, and is the only Federal Advisory Committee with responsibility to advise the Under Secretary of Commerce for Oceans and Atmosphere on long- and short-range strategies for research, education, and application of science to resource management. SAB activities and advice provide necessary input to ensure that National Oceanic and Atmospheric Administration (NOAA) science programs are of the highest quality and provide optimal support to resource management.

Time and Date: The meeting will be held Monday, August 8, 2005, from 8:30 a.m. to 5 p.m. and Tuesday, August 9, 2005, from 9 a.m. to 3 p.m. These times and the agenda topics described below may be subject to change. Refer to the Web page listed below for the most up-to-date meeting agenda.

Place: The meeting will be held both days at the NOAA Northwest Fishery Science Center, Main Auditorium, 2725 Montlake Blvd. East, Seattle, Washington.

Status: The meeting will be open to public participation with a 30-minute public comment period on August 8 from 4 p.m. to 4:30 p.m. The SAB expects that public statements presented at its meetings will not be repetitive of previously submitted verbal or written statements. In general, each individual or group making a verbal presentation will be limited to a total time of five (5) minutes. Written comments (at least 35 copies) should be received in the SAB Executive Director's Office by August 2, 2005, to provide sufficient time for SAB review. Written comments received by the SAB Executive Director after August 2 will be distributed to the SAB, but may not be reviewed prior to the meeting date. Seats will be available on a first-come, first-served basis.

Matters to be Considered: The meeting will include the following topics: (1) NOAA Priorities for an Ecosystem Approach to Management; (2) Approval of NOAA Cooperative Institute Reviews; (3) Safe Sanctuaries 2005: A NOAA Emergency Response Exercise and Example of Strategic Disaster Planning; (4) NOAA's Role in Open Ocean Aquaculture: Legislation and Research; (5) Update on the NOAA Annual Guidance Memo; (6) Update from SAB Climate and Ecosystem Research Working Groups; Status on NOAA's Plan to Strengthen the Tsunami Warning Program; (7) Salmon Recovery from Summit to Sea—Lessons from Puget Sound; (8) Response to 1999 SAB Recommendations on salmon recovery science; (9) NOAA Fisheries Science Centers' Salmon & General Science Needs; (10) Autonomous Underwater Vehicles(AUVs) and Remotely Operated Aircraft (ROA) Activities at NOAA.

FOR FURTHER INFORMATION CONTACT: Morgan Gopnik, Executive Director, Science Advisory Board, NOAA, Rm. 11117, 1315 East-West Highway, Silver Spring, Maryland 20910. (Phone: 301-713-9121, Fax: 301-713-0163, E-mail: Morgan.Gopnik@noaa.gov); or visit the NOAA SAB Web site at http://www.sab.noaa.gov.

Dated: July 22, 2005.
Louisa Koch,
Deputy Assistant Administrator, Office of Oceanic and Atmospheric Research, National Oceanic and Atmospheric Administration Atmospheric Administration.

[FR Doc. 05-15101 Filed 7-29-05; 8:45 am]

BILLING CODE 3510-KD-P